DEPARTMENT OF ENERGY

Federal Energy Regulatory Commission

[Docket No. RP00-238-001]

Columbia Gulf Transmission Company; Notice of Proposed Changes in FERC Gas Tariff

Correction

In notice document 00-14394 appearing on page 36425 in the issue of Thursday, June 8, 2000, the docket number should read as set forth above.

[FR Doc. C0-14394 Filed 8-7-00; 8:45 am]

BILLING CODE 1505-01-D

DEPARTMENT OF ENERGY

Federal Energy Regulatory Commission

[Docket No. EC00-95-000]

Dynegy Inc., Illinova Corporation, Dynegy Holdings Inc., and Dynegy Midwest Generation, Inc.; Notice of Filing

Correction

In notice document 00-14131 appearing on page 35912 in the issue of Tuesday, June 6, 2000, the docket number should read as set forth above.

[FR Doc. C0-14131 Filed 8-7-00; 8:45 am]

BILLING CODE 1505-01-D

DEPARTMENT OF JUSTICE

Drug Enforcement Administration

21 CFR Part 1310

[DEA-156F]

RIN 1117-AA43

Listed Chemicals; Final Establishment of Thresholds for Iodine and Hydrochloric Gas (Anhydrous Hydrogen Chloride)

Correction

In rule document 00-19289 beginning on page 47309 in the issue of Wednesday, August 2, 2000, make the following corrections:

1. On page 47310, in the first column, in the ninth line, “in” should read “on”.

2. On the same page, in the same column, in the DATES section, in the third and fourth lines, “[insert date of publication]” should read “August 2, 2000”.

3. On the same page, in the same column, in the eighth line from the bottom, “iodide” should read “iodine”.

4. On page 47311, in the third column, in the second full paragraph, in the ninth line, “by” should read “to”.

5. On page 47314, in the second column, in the fifth line, after “anhydrous” add “hydrogen”.

[FR Doc. C0-19289 Filed 8-7-00; 8:45 am]

BILLING CODE 1505-01-D